DEPARTMENT OF TRANSPORTATION

Federal Railroad Administration

[Docket Number FRA-2015-0105]

Petition for Waiver of Compliance

In accordance with part 211 of Title 49 Code of Federal Regulations (CFR), this document provides the public notice that by a document dated September 22, 2015, the Association of American Railroads (AAR) has petitioned the Federal Railroad Administration (FRA) for a waiver of compliance from certain provisions of the Federal railroad safety regulations contained at 49 CFR part 224, Reflectorization of Rail Freight Rolling Stock. FRA assigned the petition Docket Number FRA-2015-0105.

AAR seeks a waiver of compliance from 49 CFR 224.111, Renewal, which requires retroreflective sheeting to be replaced with new sheeting no later than 10 years after the date of initial installation, regardless of the sheeting's condition. The final rule for the reflectorization of rail freight rolling stock went into effect on November 28, 2005, making November 28, 2015, the replacement deadline for all initially applied retroreflective materials on rail freight rolling stock. The 10-year renewal period was based on most manufacturers' stated useful life of retroreflective materials at the time of the rulemaking. However, FRA indicated it would monitor the retroreflective qualities of various fleet segments over time and would consider extending the 10-year interval.

AAR and Texas A&M Transportation Institute (TTI) conducted testing and evaluation of retroreflective sheeting on 920 freight cars and 120 locomotives in service and found that much of that material tested meets or exceeds reflectivity requirements set forth in the regulation. This data, collected in 2012 and 2014, shows that the performance of the retroreflective sheets on rail cars and locomotives is more a function of material condition and cleanliness than it is of the date applied. In particular, the FRA-224 stamped material has demonstrated that, after more than 9 years in service, it is in good condition and can remain in service if properly maintained. Therefore, this petition is being made to permit well-performing material to remain in service and to be evaluated using a performance-based approach.

The AAR Equipment Engineering Committee presently favors the Federal Highway Administration Comparison Panel Method; however, some additional time is needed to develop a “standard panel” and the related training that would be used with this method. An alternative performance-based method is to use a hand-held device similar to the RoadVista 922 Retroreflectometer that AAR and TTI used during testing and evaluation. However, at approximately $10,000 per unit, this device is substantially more expensive and is not feasible for regular use in a railroad-shop environment. AAR is requesting a waiver to extend the renewal requirement for at least 3 years while work on a performance-based evaluation procedure is completed.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 13, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on October 5, 2015.
Ron Hynes,
Director, Office of Technical Oversight.

[FR Doc. 2015-26001 Filed 10-13-15; 8:45 am]

BILLING CODE 4910-06-P